ENVIRONMENTAL PROTECTION AGENCY

40 CFR Parts 141 and 142

[FRL-7628-9]

RIN 2040-AE58

National Primary Drinking Water Regulations: Minor Corrections and Clarification to Drinking Water Regulations

AGENCY: Environmental Protection Agency.

ACTION: Proposed rule.

SUMMARY: This rule proposes minor changes to clarify and correct the Environmental Protection Agency's (EPA) Drinking Water regulations. This proposal would clarify typographical errors, inadvertent omissions, editorial errors, and outdated language in the final Long Term 1 Enhanced Surface Water Treatment Rule (LT1ESWTR), the Surface Water Treatment Rule, and other rules. In addition to these clarifications, EPA is proposing optional monitoring for disinfection profiling and an earlier compliance date for some requirements in the LT1ESWTR, and a detection limit for the Uranium Methods. These three changes are discussed first. This action proposes no new monitoring or reporting requirements.

DATES: Submit comments on or before May 3, 2004.

ADDRESSES: Comments may be submitted electronically, by mail, or through hand delivery/courier. Send comments to: Water Docket, Environmental Protection Agency, Mail Code 4101T, 1200 Pennsylvania Avenue, NW., Washington, DC 20460, Attention Docket ID No. OW-2003-0066. Follow the detailed instructions as provided in the SUPPLEMENTARY INFORMATION section I.C.

FOR FURTHER INFORMATION CONTACT: For general information, contact the Safe Drinking Water Hotline, Telephone (800) 426-4791. The Safe Drinking Water Hotline is open Monday through Friday, excluding legal holidays, from 9 a.m. to 5:30 p.m., eastern time. For technical inquiries, contact Tracy Bone, Office of Ground Water and Drinking Water (MC 4607), U.S. Environmental Protection Agency, 1200 Pennsylvania Ave., NW., Washington, DC 20460; telephone: (202) 564-5257.

SUPPLEMENTARY INFORMATION:

I. General Information

A. Who Is Regulated by This Action?

Entities potentially regulated by this action are public water systems (PWS). The following table provides examples of the regulated entities under this rule. A public water system, as defined by section 1401 of Safe Drinking Water Act (SDWA), is “a system for the provision to the public of water for human consumption through pipes or other constructed conveyances, if such system has at least 15 service connections or regularly serves at least 25 individuals.” EPA defines “regularly served” as receiving water from the system 60 or more days per year. Categories and entities potentially regulated by this action include the following:

Category | Examples of potentially regulated entities
State, Tribal and Local Government | State, Tribal or local government-owned/operated water supply systems using ground water, surface water or mixed ground water and surface water.
Federal Government | Federally owned/operated community water supply systems using ground water, surface water or mixed ground water and surface water.
Industry | Privately owned/operated community water supply systems using ground water, surface water or mixed ground water and surface water.

This table is not intended to be exhaustive, but rather provides a guide for readers regarding entities likely to be regulated by this action. This table lists the types of entities that EPA is now aware could potentially be regulated by this action. Other types of entities not listed in the table could also be regulated. To determine whether your facility is regulated by this action, you should carefully examine the applicability criteria in §§ 141.2 and 141.3 of title 40 of the Code of Federal Regulations. If you have questions regarding the applicability of this action to a particular entity, consult the person listed in the preceding FOR FURTHER INFORMATION CONTACT section.

B. How Can I Get Copies of This Document and Other Related Information?

1. Docket

EPA has established an official public docket for this action under Docket ID No. OW-2003-0066. The official public docket consists of the documents specifically referenced in this action, any public comments received, and other information related to this action. Although a part of the official docket, the public docket does not include Confidential Business Information (CBI) or other information whose disclosure is restricted by statute. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. If you would like to schedule an appointment for access to docket material, please call (202) 566-2426.

2. Electronic Access

You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. Although not all docket materials may be available electronically, you may still access any of the publicly available docket materials through the docket facility identified in section I.B.1.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these late comments.

1. Electronically

If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

a. EPA Dockets. Your use of EPA's electronic public docket to submit comments to EPA electronically is EPA's preferred method for receiving comments. Go directly to EPA Dockets at http://www.epa.gov/edocket, and follow the online instructions for submitting comments. Once in the system, select “search,” and then key in Docket ID No. OW-2003-0066. The system is an “anonymous access” system, which means EPA will not know your identity, e-mail address, or other contact information unless you provide it in the body of your comment.

b. E-mail. Comments may be sent by electronic mail (e-mail) to OW-Docket@epa.gov, Attention Docket ID No. OW-2003-0066. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

c. Disk or CD ROM. You may submit comments on a disk or CD ROM that you mail to the mailing address identified in section I.C.2. These electronic submissions will be accepted in WordPerfect or ASCII file format. Avoid the use of special characters and any form of encryption.

2. By Mail

Send an original and three copies of your comments and any enclosures to: Water Docket, Environmental Protection Agency, Mail Code 4101T, 1200 Pennsylvania Avenue, NW., Washington, DC 20460, Attention Docket ID No. OW-2003-0066.

3. By Hand Delivery or Courier

Deliver your comments to: Water Docket, Environmental Protection Agency, EPA West, Room B102, 1301 Constitution Ave., NW., Washington, DC, Attention Docket ID No. OW-2002-0066. Such deliveries are only accepted during the Docket's normal hours of operation as identified in section I.B.1.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. Changes and Clarifications

Today's notice proposes clarifications of typographical errors, outdated language, editorial errors and inadvertent omissions in the text of the Long Term 1 Enhanced Surface Water Treatment Rule (LT1ESWTR), the Surface Water Treatment Rule (SWTR), and other rules. Each clarification is discussed under the heading of the drinking water rule that it amends (e.g., LT1ESWTR).

In addition to these clarifications, EPA is proposing optional monitoring for disinfection profiling and an earlier compliance date for some requirements in the LT1ESWTR, and a detection limit for the Uranium Methods. These three changes are discussed first.

A. LT1ESWTR Compliance Date Change and Optional Monitoring for Disinfection Profiling

The Final LT1ESWTR was published on January 14, 2002 (67 FR 1812). In § 141.502, of the LT1ESWTR, EPA directed PWSs to “comply with these requirements in this subpart beginning January 14, 2005, except where otherwise noted.” In today's rule, EPA proposes to change the compliance date from January 14, 2005, to January 1, 2005, in § 141.502 as well as in endnote 8 of subpart Q, Appendix B.

As stated in both § 141.73 (the Surface Water Treatment Rule) and § 141.551 (LT1ESWTR), systems must meet a specified turbidity limit “in at least 95 percent of the turbidity measurements taken each month.” Under SWTR, which is currently effective, this limit is 0.5 NTU. Under LT1ESWTR, which will be effective in January 2005, this limit is 0.3 NTU. With the current LT1ESWTR date, the month of January 2005 has two specified turbidity limits that the system would have to meet in the measurements taken that month (one for the SWTR and one for the LT1ESWTR).

In addition, the Consumer Confidence Report (CCR) requires community water systems to produce reports containing data collected in a calendar year (§ 141.152(b)). Specifically regarding turbidity, the CCR requires reporting of “the highest single measurement and the lowest monthly percentage of samples meeting the turbidity limits specified in § 141.73 or § 141.173 or § 141.551 for the filtration technology being used.” See § 141.153(d)(4)(v)(C). Shifting the compliance date of the LT1ESWTR to January 1, 2005, allows systems to report only one specified turbidity limit for calendar year 2005 (versus two under the current compliance date) thus easing implementation and readability of the CCR.

In general, regulations promulgated under the Safe Drinking Water Act (SDWA) are implemented 3 years after the date of promulgation. Section 1412(b)(10) directs EPA to make national primary drinking water regulations “take effect on the date that is 3 years after the date on which the regulation is promulgated unless the Administrator determines that an earlier date is practicable. * * *” For the reasons stated earlier, EPA is proposing to move this date 2 weeks earlier than the 3 year time frame. EPA believes it is practicable for PWSs to meet this earlier date. For the combined filter effluent requirements, systems will not need to install any new equipment because systems are already monitoring their combined filter effluent. For the individual filter effluent requirements, systems will need to install new equipment—turbidimeters, but they are readily available. In addition, EPA considered the benefits of moving the compliance date to January 1, 2005, in concluding that this two week shift in the date is practicable. EPA is also changing the date in the public notification rule, subpart Q Appendix B, endnote 8—to be consistent with the new compliance date of the LT1SWTR. By changing § 141.502, the following 12 requirements will have a compliance deadline of January 1, 2005: §§ 141.520, 141.521, 141.522, 141.550, 141.551, 141.552, 141.553, 141.560, 141.561, 141.562, 141.563, and 141.564. July 1, 2003 (or January 1, 2004, for systems serving fewer than 500 persons), remains the compliance date for §§ 141.530-536. March 15, 2002, remains the compliance date for §§ 141.511.

In addition to changing the compliance date, EPA is proposing to add a sentence to § 141.531 to clarify that States may approve a more representative TTHM and HAA5 data set (optional monitoring) to avoid the disinfection profile monitoring required in § 141.530. EPA's intent was to allow this flexibility as evidenced by the discussion in the preamble (67 FR 1820, January 14, 2002) which states “EPA agrees that systems and States should be allowed the opportunity to use more representative samples, and today's final rule affords States the opportunity to allow more representative data for optional monitoring and profiling.” In addition, States are required in § 142.16(j)(2)(i) to describe as part of their primacy applications how they will “approve a more representative data set for optional TTHM and HAA5 monitoring.” Section 142.16(j) is being redesignated as § 142.16(p), see discussion in II.D, please refer to the rule as promulgated, 67 FR 1820, January 14, 2002. EPA would not have required States to describe their procedure if EPA did not also intend to allow a more representative data set for optional TTHM and HAA5 monitoring. While EPA's intent was to allow this flexibility, EPA failed to make this flexibility explicit in the regulation. Therefore, EPA is proposing to correct § 141.531 to explicitly allow States to approve a more representative TTHM and HAA5 data set by adding the sentence “Your State may approve a more representative TTHM and HAA5 data set to determine these levels.”

B. Detection Limit for Compliance Monitoring of Uranium

EPA is proposing to specify a detection limit for compliance determinations of uranium in drinking water at one microgram per liter (1 μg/L) to ease the monitoring burden on public water systems. This amendment is needed for systems to take advantage of the initial monitoring and repeat monitoring waiver provisions at § 141.26(a)(3)(i). For gross alpha, radium-226, radium-228 or uranium, these provisions provide the flexibility for the State to waive the final two quarters of initial monitoring at a sampling point if the results of the samples from the previous two quarters are below the detection limit for a radionuclide. Also, the repeat monitoring frequency will decrease to once every 9 years for entry points which are below detection.

The December 7, 2000, final Radionuclides Rule (65 FR 76708) included a detection limit for gross alpha, radium-226 and radium-228, and reserved a place for a uranium detection limit in Table B at § 141.25(c)(1). EPA did not specify a detection limit in the December 2000 final rule for uranium because no detection limit was discussed in the 1991 rule that proposed maximum contaminant limits (MCLs) and monitoring requirements for several radionuclides (56 FR 33050, July 18, 1991). However, the preamble of the December 2000 final rule states that EPA would “propose a detection limit for uranium in a future rulemaking before the compliance date of this rule” (65 FR 76724). Commenters on this issue stated that EPA should be consistent with other regulated radionuclides and set a detection limit for uranium that is consistent with the sensitivity measures used for other radionuclides (65 FR 76724).

In today's action, EPA is proposing to amend Table B at § 141.25(c)(1) to add a detection limit of 1 μg/L for uranium. EPA is proposing the detection limit as 1 μg/L because it is achievable by all current and proposed methods, within the capability of a substantial majority of laboratories, and well below the MCL of 30 μg/L. Establishing a uranium detection limit permits States the flexibility to substantially reduce the number of compliance samples and the frequency of repeat monitoring for uranium. For systems with initial monitoring results below detection for two quarters, repeat monitoring would be reduced to a nine-year frequency. Accordingly, EPA believes that a 1 μg/L detection limit serves two purposes: It assures a reliable measurement technique is used and allows systems with a fraction, i.e. less than one-thirtieth of the MCL, to reduce their monitoring frequency. EPA requests that commenters suggesting any other detection limit provide any available research, testing results, data, or other information that supports an alternative approach.

C. Radionuclide Rule Clarifications

In addition to proposing a detection limit for uranium, EPA proposes to make two clarifications to the final Radionuclide Rule (December 7, 2000, 65 FR 76708). In § 141.26(b)(2)(iv), EPA proposes to add “screening level” to the first sentence. (Note also, that the second “beta” in this sentence is a typographical error, and under today's rule would be removed.) With these revisions, the sentence will read, “If the gross beta particle activity minus the naturally occurring potassium-40 beta particle activity at a sampling point has a running annual average (computed quarterly) less than or equal to 15 pCi/L (screening level), the State may reduce the frequency of monitoring at that sampling point to every 3 years.” This clarifies that the 15 pCi/L is a screening level for systems just as 50 pCi/L is a screening level for systems in § 141.26(b)(1)(i) (see 65 FR 76726). These are the same two numerical screening levels that were in effect for many years in the 1976 rule; EPA intended to retain them. Similarly, EPA proposes to clarify in 141.26(b)(5), that there are two screening levels by adding the word “appropriate” to the first sentence so that it reads “...exceeds the appropriate screening level...”.

In § 141.26(b)(6), EPA proposes to revise the citation “(b)(1)(ii)” to read “(b)(1)(i)”, and revise citation “(b)(2)(i)” to read “(b)(2)(iv).” These were typographical errors and should have been (b)(1)(i) and (b)(2)(iv) which refer to meeting the screening level requirements until the system meets the requirements for reduced monitoring.

D. LT1ESWTR Clarifications

In addition to changing the date in § 141.502 to reduce monitoring burden as well as to allow States to approve alternative data sets for optional monitoring in § 141.531, EPA is proposing to clarify typographical errors in the final LT1ESWTR. In subpart Q Appendix B, in endnotes 4 and 8, the year of publication for the Long Term 1 Enhanced Surface Water Treatment Rule is incorrectly identified as 2001 when it should be 2002. Also in endnote 4, the word “monthly” is misspelled.

In § 141.530 EPA is proposing to remove the grammatically incorrect, plural “s” from “systems” in the sentence “If you are a subpart H community or non-transient non-community water systems which serves fewer * * * ”

Section 141.534 has two typographical errors. In the introductory paragraph for § 141.534, EPA inadvertently omitted a reference to § 141.74(b)(3)(v), which provides tables for determining the appropriate CT99.9 value to calculate the inactivation ratio. These tables for CT99.9 are referred to in other drinking water regulations (for example, see the IESWTR, § 141.172(b)(2)). EPA proposes to change the introductory paragraph of § 141.534 to: “Use the tables in § 141.74(b)(3)(v) to determine the appropriate CT99.9 value. Calculate the total inactivation ratio as follows, and multiply the value by 3.0 to determine log inactivation of Giardia lamblia:”

In the table in § 141.534(a)(2), EPA proposes to change the “3” to “Σ” in the CT calculation formula. EPA inadvertently changed the “Σ” to a “3” during a text file conversion. This clarification will assure consistency with the IESWTR, see § 141.172(b)(4)(i)(B).

In § 141.551(a)(2), EPA proposes to add a “t” to the “no” in “A value determined by the State (no to exceed 1 NTU) * * * ” In § 141.551(b)(2), EPA proposes to add the word “Filtration” to the phrase “All other “Alternative” which will match related language in § 141.551(a)(2).

In the table in § 141.563(b), the last sentence in the second column is redundant. The last sentence reads: “If a self-assessment is required, the date that it was triggered and the date that it was completed.” EPA proposes to delete this sentence. This sentence is properly included in the description of reporting requirements in the table in § 141.570(b)(3) but should not be included in the regulation describing a follow-up action that a system must take if it exceeds a turbidity limit. Also in the same table in § 141.563(c), the first column contains a typographical error. The acronym “BTU” should read “NTU” (Nephelometric Turbidity Units).

In the table in § 141.570(b)(2) there is an omission. EPA is proposing to add the phrase: “and the cause (if known) for the exceedance(s)” to the description of information to report under § 141.570(b)(2). As a result, the entire paragraph would read: “The filter number(s), corresponding date(s), and the turbidity value(s) which exceeded 1.0 NTU during the month, and the cause (if known) for the exceedance(s), but only if 2 consecutive measurements exceeded 1.0 NTU.” This will make the wording in the table at 141.570(b)(2) consistent with 141.563(a).

In the LT1ESWTR, EPA placed the special primacy requirements for States in § 142.16 (j), however that paragraph designation was already reserved for a previously promulgated (though not yet effective) drinking water rule (66 FR 6976, January 22, 2001). This action proposes to redesignate the LT1ESWTR special primacy text as § 142.16(p). In addition, EPA proposes to revise a citation in 142.(p)(2)(ii) to “141.536” to read “141.535.” This was a typographical error and should have been “141.535” which refers to calculating inactivation.

E. Stage 1 Disinfectants and Disinfection Byproducts Rule

The Stage 1 Disinfectants and Disinfection Byproducts Rule was promulgated on December 16, 1998 (63 FR 69390). This rule required systems to measure and report, among other things, violations of maximum residual disinfectant levels (MRDLs), see 141.134(c)(1)(iv) (see 63 FR 69422 and 69472). However, EPA failed to add compliance with the applicable MRDL to the compliance requirements in § 141.133(a)(3). EPA proposes to correct this. The language in § 141.133(a)(3) would now read “If, during the first year of monitoring under § 141.132, any individual quarter's average will cause the running annual average of that system to exceed the MCL for total trihalomethanes, haloacetic acids (five), or bromate; or the MRDL for chlorine or chloramine, the system is out of compliance at the end of that quarter.” The burden for this requirement was already accounted for in the approved Information Collection Request No. 1895.02.

Also, in the final Stage 1 Disinfectants and Disinfection Byproducts Rule, EPA incorrectly cited in § 142.14(d)(12)(iv) and 142.14(d)(13) a reference to 142.16(f). The reference for both sections should be § 142.16(h)(2) and § 142.16(h)(5) respectively. Section 142.16 (f)(2) refers to reports required under the Consumer Confidence Report Rule; however, §§ 142.14(d)(12)(iv) and 142.14(d)(13) clearly intend to refer the reader to requirements concerning disinfectants and disinfectant byproducts.

F. Surface Water Treatment Rule

The Surface Water Treatment Rule (SWTR) was promulgated on June 29, 1989 (54 FR 27486). In that final rule, EPA incorrectly cited in § 141.74(b)(4)(ii) a reference to § 142.72(a). This citation should read § 141.72(a), which refers to disinfection requirements for public water systems rather than requirements for tribal eligibility (§ 142.72(a)).

Also, EPA is proposing to clarify requirements concerning the calibration of turbidimeters in §§ 141.174(a) (IESWTR) and in 141.560(b) (LT1ESWTR) by adding the phrase already used in § 141.74(a)(1), “using analytical test procedures contained in Technical Notes on Drinking Water Methods, EPA-600/R-94-173, October 1994.” Section 141.174(a) would now end, “must calibrate turbidimeters using the procedure specified by the manufacturer and by using analytical test procedures contained in Technical Notes on Drinking Water Methods, EPA-600/R-94-173, October 1994.” Section 141.560(b) would have equivalent language so that it now ends, “must calibrate turbidimeters using the procedure specified by the manufacturer and by using analytical test procedures contained in Technical Notes on Drinking Water Methods, EPA-600/R-94-173, October 1994.”

EPA proposes to change all citations to § 141.74(a)(3) or (4) to § 141.74(a)(1), and all citations to § 141.74(a)(5) to § 141.74(a)(2). The SWTR, as published in 1989, had paragraphs § 141.74(a)(3)-(7). The original (a)(3) described HPC methods, (a)(4) described turbidity methods, (a)(5) described residual disinfectant concentration methods, (a)(6) described temperature methods, and (a)(7) described pH methods. On December 5, 1994 (59 FR 62470), EPA revised the SWTR at § 141.74. In that rule, EPA revised paragraphs (a)(1) and (2) and removed paragraphs (a)(3) through (a)(7). EPA subsequently modified § 141.74(a)(1) by moving the temperature method listed in the table § 141.74(a)(1) to the text of § 141.74(a)(1) (June 29, 1995, 60 FR 34086). As a result of these two notices (1994 and 1995) the requirements in (a)(1)-(7) were all combined into paragraphs (a)(1) and (a)(2), however; EPA failed to make corresponding changes to the following cross references elsewhere in part 141:

Table 1.—References to the Surface Water Treatment Rule
SWTR provisions with incorrect cross references | Proposed amendment
141.71(a)(2) | “(a)(4)” to (a)(1)
141.71(c)(2)(i) | “(a)(4)” to (a)(1)
141.72(a)(3) | “(a)(5)” to (a)(2)
141.72(a)(4)(i) | “(a)(3)” to (a)(1) and “(a)(5)” to (a)(2)
141.72(a)(4)(ii) | “(a)(3)” to (a)(1)
141.72(b)(2) | “(a)(5)” to (a)(2)
141.72(b)(3)(i) | “(a)(5)” to (a)(2) and, “(a)(3)” to (a)(1)
141.72(b)(3)(ii) | “(a)(3)” to (a)(1)
141.73(a)(1) | “(a)(4)” to (a)(1)
141.73(a)(2) | “(a)(4)” to (a)(1)
141.73(b)(1) | “(a)(4)” to (a)(1)
141.73(b)(2) | “(a)(4)” to (a)(1)
141.73(c)(1) | “(a)(4)” to (a)(1)
141.73(c)(2) | “(a)(4)” to (a)(1)
141.74(b)(6)(ii) | “(a)(3)” to (a)(1)
141.74(c)(3)(i) | “(a)(3)” to (a)(1)
141.74(c)(3)(ii) | “(a)(3)” to (a)(1)
141.75(a)(2)(viii)(G) | “(a)(3)” to (a)(1)
141.75(b)(2)(iii)(G) | “(a)(3)” to (a)(1)

G. Filter Backwash Recycling Rule

The Filter Backwash Recycling Rule (FBRR) was promulgated on June 8, 2001 (66 FR 31086). EPA inadvertently provided incomplete citations in subpart Q, Appendix A of the Public Notification rule for the FBRR violations. In entry I.A.(8) of 40 CFR part 141, subpart Q, Appendix A, EPA is proposing to add a “(c)” to the “MCL/MRDL/TT violations Citation” column of § 141.76; and, in the “Monitoring & testing procedure violations Citation” column EPA is proposing to add “(b), (d)” to § 141.76. This will clarify which FBRR violations require public notice and what type of notice is required.

The FBRR preamble (66 FR 31086, 31094) explicitly states that violations of the recordkeeping and reporting portions of this treatment technique trigger public notification (PN) obligations under 40 CFR part 141, subpart Q. Normally, recordkeeping and reporting violations do not trigger PN. The preamble to the PN rule, as well as the rule text, state that reporting and recordkeeping violations do not trigger PN. For example, see § 141, subpart Q, Appendix A, Endnote 1. Moreover, the table listing categories of violations that trigger PN—§ 141.201 Table 1—does not list reporting or recordkeeping. However, the recordkeeping and reporting requirements of the FBRR are an integral part of the treatment technique itself and thus do trigger PN.

EPA is clarifying this by making the following changes to the PN rule: striking the reference to reporting violations in Appendix A, endnote 1, and explicitly adding §§ 141.76(b), (c) and (d) to the list of categories requiring reporting in Appendix A (current references are just to § 141.76). These changes will harmonize the two rules/preambles and help to clarify where the FBRR recordkeeping and reporting requirements fit under the list of categories in § 141.201 Table 1.

H. Bottled Water

In a November 1995 final rule (60 FR 57132), the Food and Drug Administration (FDA) moved their standards of quality for bottled water from § 103.35 (21 CFR 103.35) to § 165.110. EPA proposes to correct a reference in our regulations in § 142.62(g)(2) to this updated citation of these FDA regulations.

I. Information Collection Rule

The Information Collection Rule (ICR) was promulgated on May 14, 1996 (61 FR 24354). The requirements promulgated in the ICR expired on December 31, 2000. As a result, the ICR requirements (referred to as subpart M—Information Collection Requirements (ICRs) for Public Water Systems) were removed from the Code of Federal Regulations in 2001. However, there are remaining references to the data collected as a result of the ICR in other sections of part 141 that refer to “subpart M”. EPA proposes to delete, “or subpart M of this part” from § 141.132(a)(5). EPA is not proposing to delete or revise the other references to subpart M because the data collected under the ICR are still being used.

J. Phase V Rule

In the final Phase V Rule (July 17, 1992, 57 FR 31776), EPA published a list of Best Available Technologies (BATs) for cyanide, see § 141.62(c). Subsequently, EPA identified the need for a rule revision relating to one of the three BATs for cyanide, specifically chlorine. EPA should have been more specific (see 57 FR 31089 of the final rule and 55 FR 30419 of the proposed rule (July 25, 1990, 55 FR 30370)) as to the type of chlorination and instead listed “alkaline chlorination.” EPA discussed this issue in a public memorandum, “Public Water System Warning” Memo, March 7, 1994. EPA also listed “alkaline chlorination” rather than chlorination in the Small System Compliance Technology List for the Non-microbial Contaminants Regulated Before 1996, see August 6, 1998, 63 FR 42039, Table 4 and 5. EPA proposes to delete the “10” (code for chlorination) from the cyanide BAT list and replace it with “13” (new code for alkaline chlorination). In addition, the new code for alkaline chlorination is added to the table key.

III. Statutory and Executive Order Reviews

A. Executive Order 12866: Regulatory Planning and Review

Under Executive Order 12866, (58 FR 51735 (October 4, 1993)) the Agency must determine whether the regulatory action is “significant” and therefore subject to OMB review. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this proposed rule is not a “significant regulatory action” under the terms of Executive Order 12866 and is therefore not subject to Executive Order 12866.

B. Paperwork Reduction Act

This action does not impose an information collection burden under the provisions of the Paperwork Reduction Act, 44 U.S.C. 3501 et seq. This action modifies and clarifies existing regulations. It does not add monitoring, recordkeeping or reporting requirements.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number.

The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small government jurisdictions.

The RFA provides default definitions for each type of small entity. It also authorizes an agency to use alternative definitions for each category of small entity, “which are appropriate to the activities of the agency” after proposing the alternative definition(s) in the Federal Register and taking comment. 5 U.S.C. 601(3)-(5). In addition to the above, to establish an alternative small business definition, agencies must consult with the Small Business Administration's (SBA's) Chief Counsel for Advocacy.

For purposes of assessing the impacts of today's proposed rule on small entities, EPA considered small entities to be public water systems serving 10,000 or fewer persons. This is the cut-off level specified by Congress in the 1996 Amendments to the Safe Drinking Water Act for small system flexibility provisions. In accordance with the RFA requirements, EPA proposed using this alternative definition in the Federal Register (63 FR 7620, February 13, 1998), requested public comment, consulted with the Small Business Administration (SBA), and expressed its intention to use the alternative definition for all future drinking water regulations in the Consumer Confidence Reports regulation (63 FR 44511, August 19, 1998). As stated in that final rule, the alternative definition would be applied to this proposed regulation as well.

This proposed rule imposes no cost on any entities over and above those imposed by previously published drinking water rules. This action corrects and clarifies existing regulations. The optional monitoring for disinfection profiling provides flexibility for PWSs complying with LT1ESWTR. The earlier compliance date will not increase the cost of complying with LT1ESWTR since the monitoring and reporting requirements are unchanged. By specifying the detection limit for uranium, States have the flexibility to waive some monitoring for PWSs with samples below the detection limit. This action does not add new requirements.

After considering the economic impacts of today's proposed rule on small entities, I certify that this action will not have a significant economic impact on a substantial number of small entities.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's proposed rule contains no Federal mandates (under the regulatory provisions of Title II of the UMRA) for State, local, or tribal governments or the private sector. This proposed rule imposes no enforceable duty on any State, local or tribal governments or the private sector. This action corrects and clarifies existing regulations. The optional monitoring for disinfection profiling provides flexibility for PWSs to comply with LT1ESWTR. The earlier compliance date will not increase the cost of complying with LT1ESWTR since the monitoring and reporting requirements are unchanged. By specifying the detection limit for uranium, States have the flexibility to waive some monitoring for PWSs with samples below the detection limit. Thus, today's proposed rule is not subject to the requirements of sections 202 and 205 of the UMRA.

EPA has determined that this proposed rule contains no regulatory requirements that might significantly or uniquely affect small governments. This proposed rule imposes no enforceable duty on any State, local or tribal governments or the private sector. This action corrects and clarifies existing regulations. Thus, today's proposed rule is not subject to the requirements of section 203 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. There is no cost to State and local governments, and the proposed rule does not preempt State law. This action corrects and clarifies existing regulations. The optional monitoring for disinfection profiling provides flexibility for PWSs to comply with LT1ESWTR. The earlier compliance date will not increase the cost of complying with LT1ESWTR since the monitoring and reporting requirements are unchanged. By specifying the detection limit for uranium, States have the flexibility to waive some monitoring for PWSs with samples below the detection limit. Thus, Executive Order 13132 does not apply to this proposed rule. In the spirit of Executive Order 13132, and consistent with EPA policy to promote communications between EPA and State and local governments, EPA specifically solicits comment on this proposed rule from State and local officials.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule does not have tribal implications. It will not have substantial direct effects on tribal governments, on the relationship between the Federal government and Indian tribes, or on the distribution of power and responsibilities between the Federal government and Indian tribes, as specified in Executive Order 13175. There is no cost to tribal governments, and the proposed rule does not preempt tribal law. This action corrects and clarifies existing regulations. Thus, Executive Order 13175 does not apply to this rule. In the spirit of Executive Order 13175, and consistent with EPA policy to promote communications between EPA and tribal governments, EPA specifically solicits additional comment on this proposed rule from tribal officials.

G. Executive Order 13045: Protection of Children From Environmental Health & Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This proposed rule is not subject to Executive Order 13045 because it is not economically significant as defined in Executive Order 12866. Further, it does not concern an environmental health or safety risk that EPA has reason to believe may have a disproportionate effect on children.

H. Executive Order 13211: Actions That Significantly Affect Energy Supply, Distribution, or Use

This proposed rule is not subject to Executive Order 13211, “Actions Concerning Regulations That Significantly Affect Energy Supply, Distribution, or Use” (66 FR 28355 (May 22, 2001)) because it is not a significant regulatory action under Executive Order 12866.

I. National Technology Transfer and Advancement Act

Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This proposed rulemaking does not involve any new technical standards. Therefore, EPA is not considering the use of any voluntary consensus standards.

List of Subjects

40 CFR Part 141

Chemicals, Environmental protection, Indians-lands, Intergovernmental relations, Radiation protection, Reporting and recordkeeping requirements, Water supply.

40 CFR Part 142

Administrative practice and procedure, Chemicals, Indians-lands, Radiation protection, Reporting and recordkeeping requirements, Water supply.

Dated: February 24, 2004.
Michael O. Leavitt,
Administrator.

For the reasons set out in the preamble, title 40, chapter I of the Code of Federal Regulations is proposed to be amended as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

§ 141.25 [Amended]

2. Section 141.25(c)(1) is amended in the entry for uranium in Table B by revising the word “reserved” to read “1 μg/L”.

§ 141.26 [Amended]

3. Section 141.26 is amended as follows:

a. Revise paragraph (b)(2)(iv) and (b)(5); and

b. In paragraph (b)(6) revise the citation “(b)(1)(ii)” to read “(b)(1)(i)” and revise the citation “(b)(2)(i)” to read “(b)(2)(iv)” as follows:

§ 141.26 Monitoring frequency and compliance requirements for radionuclides in community water systems.

* * * * *

(b) * * *

(2) * * *

(iv) If the gross beta particle activity minus the naturally occurring potassium-40 beta particle activity at a sampling point has a running annual average (computed quarterly) less than or equal to 15 pCi/L (screening level), the State may reduce the frequency of monitoring at that sampling point to every 3 years. Systems must collect the same type of samples required in paragraph (b)(2) of this section during the reduced monitoring period.

* * * * *

(5) If the gross beta particle activity minus the naturally occurring potassium-40 beta particle activity exceeds the appropriate screening level, an analysis of the sample must be performed to identify the major radioactive constituents present in the sample and the appropriate doses must be calculated and summed to determine compliance with § 141.66(d)(1), using the formula in § 141.66(d)(2), or Table E in § 141.66(d). Doses must also be calculated and combined for measured levels of tritium and strontium to determine compliance.

* * * * *

§ 141.62 [Amended]

4. Section 141.62(c) is amended as follows:

a. In the Table “BAT for inorganic compounds listed in section 141.62(b)” amend the entry for “cyanide” by replacing the “10” with “13”; and

b. In the list “Key to BATS in Table 1”, add to the end of the list as follows: “13 = Alkaline Chlorination (pH ≥ 8.5)”.

§ 141.71 [Amended]

5. Section 141.71 is amended as follows:

a. In paragraph (a)(2) introductory text revise the citation “§ 141.74(a)(4)” to read “§ 141.74(a)(1)”; and

b. In paragraph (c)(2)(i) revise the citation “§ 141.74(a)(4)” to read “§ 141.74(a)(1)”.

§ 141.72 [Amended]

6. Section 141.72 is amended as follows:

a. In paragraph (a)(3) revise the citation “§ 141.74(a)(5)” to read “§ 141.74(a)(2)”;

b. In paragraph (a)(4)(i) revise the citation “§ 141.74(a)(5)” to read “§ 141.74(a)(2)” and revise the citation “§ 141.74(a)(3)” to read “§ 141.74(a)(1)”;

c. In paragraph (a)(4)(ii) revise the citation “§ 141.74(a)(3)” to read “§ 141.74(a)(1)”;

d. In paragraph (b)(2) revise the citation “§ 141.74(a)(5)” to read “§ 141.74(a)(2)”;

e. In paragraph (b)(3)(i) revise the citation “§ 141.74(a)(5)” to read “§ 141.74(a)(2)”, and revise the citation “§ 141.74(a)(3)” to read “§ 141.74(a)(1)”; and

f. In paragraph (b)(3)(ii) revise the citation “§ 141.74(a)(3)” to read “§ 141.74(a)(1)”.

§ 141.73 [Amended]

7. Section 141.73 is amended as follows:

a. In paragraph (a)(1) revise the citation “§ 141.74(a)(4)” to read “§ 141.74(a)(1)”;

b. In paragraph (a)(2) revise the citation “§ 141.74(a)(4)” to read “§ 141.74(a)(1)”;

c. In paragraph (b)(1) revise the citation “§ 141.74(a)(4)” to read “§ 141.74(a)(1)”;

d. In paragraph (b)(2) revise the citation “§ 141.74(a)(4)” to read “§ 141.74(a)(1)”;

e. In paragraph (c)(1) revise the citation “§ 141.74(a)(4)” to read “§ 141.74(a)(1)”; and

f. In paragraph (c)(2) revise the citation “§ 141.74(a)(4)” to read “§ 141.74(a)(1)”.

§ 141.74 [Amended]

8. Section 141.74 is amended as follows:

a. In paragraph (b)(4)(ii) revise the citation “§ 142.72(a)” to read “§ 141.72(a)”;

b. In paragraph (b)(6)(ii) revise the citation “(a)(3)” to read “(a)(1)”;

c. In paragraph (c)(3)(i) revise the citation “(a)(3)” to read “(a)(1)”; and

d. In paragraph (c)(3)(ii) revise the citation “(a)(3)” to read “(a)(1)”.

§ 141.75 Amended

9. Section 141.75 is amended as follows:

a. In paragraph (a)(2)(viii)(G) revise the citation “§ 141.74(a)(3)” to read “§ 141.74(a)(1)”; and

b. In paragraph (b)(2)(iii)(G) revise the citation “§ 141.74(a)(3)” to read “§ 141.74(a)(1)”.

10. Section 141.132 is amended in paragraph (a)(5) by removing the reference to “or subpart M of this part”.

11. In § 141.133 revise paragraph (a)(3) to read as follows:

§ 141.133 Compliance requirements.

(a) * * *

(3) If, during the first year of monitoring under § 141.132, any individual quarter's average will cause the running annual average of that system to exceed the MCL for total trihalomethanes, haloacetic acids (five), or bromate; or the MRDL for chlorine or chloramine, the system is out of compliance at the end of that quarter.

* * * * *

12. In § 141.174 revise the first sentence of paragraph (a) to read as follows:

§ 141.174 Filtration sampling requirements.

(a) * * * In addition to monitoring required by § 141.74, a public water system subject to the requirements of this subpart that provides conventional filtration treatment or direct filtration must conduct continuous monitoring of turbidity for each individual filter using an approved method in § 141.74(a) and must calibrate turbidimeters using the procedure specified by the manufacturer and by using analytical test procedures contained in Technical Notes on Drinking Water Methods, EPA-600/R-94-173, October 1994. * * *

* * * * *

13. In subpart Q, Appendix A is amended as follows:

a. In entry I.A.(8) revise the citation in the third column “141.76” to read “141.76(c)” and the citation in the fifth column “141.76” to read “141.76 (b), (d)”.

b. Amend endnote 1 by removing the words “reporting violations and” from the first parenthetical phrase.

14. In subpart Q, Appendix B revise endnotes 4 and 8 to read as follows:

Appendix B to Subpart Q of Part 141—Standard Health Effects Language for Public Notification

* * * * *

⁴ There are various regulations that set turbidity standards for different types of systems, including 40 CFR 141.13, and the 1989 Surface Water Treatment Rule, the 1998 Interim Enhanced Surface Water Treatment Rule and the 2002 Long Term 1 Enhanced Surface Water Treatment Rule. The MCL for the monthly turbidity average is 1 NTU; the MCL for the 2-day average is 5 NTU for systems that are required to filter but have not yet installed filtration (40 CFR 141.13).

* * * * *

⁸ There are various regulations that set turbidity standards for different types of systems, including 40 CFR 141.13, the 1989 Surface Water Treatment Rule (SWTR), the 1998 Interim Enhanced Surface Water Treatment Rule (IESWTR) and the 2002 Long Term 1 Enhanced Surface Water Treatment Rule (LT1ESWTR). For systems subject to the IESWTR (systems serving at least 10,000 people, using surface water or ground water under the direct influence of surface water), that use conventional filtration or direct filtration, after January 1, 2002, the turbidity level of a system's combined filter effluent may not exceed 0.3 NTU in at least 95 percent of monthly measurements, and the turbidity level of a system's combined filter effluent must not exceed 1 NTU at any time. Systems subject to the IESWTR using technologies other than conventional, direct, slow sand, or diatomaceous earth filtration must meet turbidity limits set by the primacy agency. For systems subject to the LT1ESWTR (systems serving fewer than 10,000 people, using surface water or ground water under the direct influence of surface water) that use conventional filtration or direct filtration, after January 1, 2005 the turbidity level of a system's combined filter effluent may not exceed 0.3 NTU in at least 95 percent of monthly measurements, and the turbidity level of a system's combined filter effluent must not exceed 1 NTU at any time. Systems subject to the LT1ESWTR using technologies other than conventional, direct, slow sand, or diatomaceous earth filtration must meet turbidity limits set by the primacy agency.

* * * * *

15. Revise § 141.502 to read as follows:

§ 141.502 When must my system comply with these requirements?

You must comply with these requirements in this subpart beginning January 1, 2005, except where otherwise noted.

16. In § 141.530 in the second sentence, revise “water systems” to read “water system”.

17. Amend § 141.531 by adding the following sentence to the end of the section, to read as follows:

§ 141.531 What criteria must a State use to determine that a profile is unnecessary?

* * * Your State may approve a more representative TTHM and HAA5 data set to determine these levels.

18. Section 141.534 is amended as follows:

a. By revising the introductory paragraph,

b. In the table in paragraph (a)(2), revise the “3” to read “Σ”.

§ 141.534 How does my system use this data to calculate an inactivation ratio?

Use the tables in § 141.74(b)(3)(v) to determine the appropriate CT99.9 value. Calculate the total inactivation ratio as follows, and multiply the value by 3.0 to determine log inactivation of Giardia lamblia:

* * * * *

§ 141.551 [Amended]

19. Section 141.551 is amended as follows:

a. In paragraph (a)(2) revise “no” to read “not”; and

b. In paragraph (b)(2) revise “”Alternative“” to read “Alternative Filtration”.

20. In § 141.560, revise paragraph (b) to read as follows:

§ 141.560 Is my system subject to individual filter turbidity requirements?

* * * * *

(b) Calibration of turbidimeters must be conducted using procedures specified by the manufacturer and by analytical test procedures contained in Technical Notes on Drinking Water Methods, EPA-600/R-94-173, October 1994.

* * * * *

141.563 [Amended]

21. Section 141.563 is amended as follows:

a. In paragraph (b) remove the last sentence in the second column of the table, and

b. In paragraph (c) revise “BTU” to read “NTU” in the first column of the table.

22. In § 141.570, revise paragraph (b)(2) in the table to read as follows:

§ 141.570 What does subpart T require that my system report to the State?

* * * * *

Corresponding requirement | Description of information to report | Frequency
* * * * * * *
(b) Individual Filter Turbidity Requirements (§§ 141.560-141.564)
| (2) The filter number(s), corresponding date(s), and the turbidity value(s) which exceeded 1.0 NTU during the month, and the cause (if known) for the exceedance(s), but only if 2 consecutive measurements exceeded 1.0 NTU | By the 10th of the following month.
* * * * * * *

PART 142—NATIONAL PRIMARY DRINKING WATER REGULATIONS IMPLEMENTATION

23. The authority citation for part 142 continues to read as follows:

Authority: 42 U.S.C. 300f, 300g-1, 300g-2, 300g-3, 300g-4, 300g-5, 300g-6, 300j-4, 300j-9, and 300j-11.

§ 142.14 [Amended]

24. Section 142.14 is amended as follows:

a. In paragraph (d)(12)(iv) revise the citation “§ 142.16(f)(2)” to read “§ 142.16(h)(2)”; and

b. In paragraph (d)(13) revise the citation “§ 142.16(f)(5)” to read “§ 142.16(h)(5)”.

§ 142.16 [Amended]

25. Section 142.16 is amended as follows:

a. In paragraph (l)(2) revise the citation “§ 142.16 (e)(5)” to read “§ 142.16 (e)(2)”;

b. Redesignate paragraph (j) which was added on January 14, 2002, at 67 FR 1812 as paragraph (p); and

c. In paragraph (p)(2)(ii) revise the citation “141.536” to read “141.535”.

26. Section 142.62(g)(2) is amended by revising the citation “103.35” to read “165.110”.

[FR Doc. 04-4464 Filed 3-1-04; 8:45 am]

BILLING CODE 6560-50-P